DEPARTMENT OF DEFENSE

Department of the Army

Program for Qualifying Department of Defense (DoD) Brokers

AGENCY: Military Traffic Management Command, DoD.

ACTION: Notice.

SUMMARY: The Military Traffic Management Command (MTMC), as the Program Director for the Department of Defense (DoD), has reviewed comments received in response to the Federal Register Notice of December 18, 2000 (Volume 65, Number 243) page 79084. We appreciate the comments of those responding and weighed them in our decision process. MTMC will reconsider expanding the role of brokers to allow their participation in DoD's Personal Property Program when proposal's within the Task Force Fix are implemented.

FOR FURTHER INFORMATION CONTACT: Ms. Sylvia Walker, Headquarters, Military Traffic Management Command, Attn: MTPP-HQ, Room 10N67-51, Hoffman Building II, 200 Stovall Street, Alexandria, VA 22332-5000; Telephone (703) 428-2982, Telefax (703) 428-3388.

Luz D. Ortiz,
Army Federal Register Liaison Officer.

[FR Doc. 01-10014 Filed 4-23-01; 8:45 am]

BILLING CODE 3710-08-M